DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

High-Speed Interlaced Spin Echo Magnetic Resonance Imaging

Jeff Duyn (CC)

DHHS Reference No. E-171-99/0 filed 30 Dec 1999

Licensing Contact: Carol Salata; 301/496-7735 ext. 232; e-mail: cs253n@nih.gov

Spin-echo acquisition in magnetic resonance imaging (MRI) facilitates the observation of anatomical abnormalities in pathologies such as brain tumors, stroke and multiple sclerosis. It can also be applied in conjunction with perfusion techniques for the investigation of function, based on susceptibility contrast agents as well as blood oxygen level dependent (BOLD) contrast. Improving the efficiency of spin echo MRI is the subject of the current invention. It provides a method of reducing scan time in multi-slice spin-echo MRI through effective use of the echo delay time between radio frequency (RF) excitation and reception. This technique has been evaluated in examples of brain scans and has indications that a substantial increase in scan speed can be achieved without loss in image signal-to-noise ratio or contrast.

Laparoscopic Sac Holder Assembly

McClellan M. Walther, Frank Harrington (NCI)

Serial No. 09/368,824 filed 05 Aug 1999

Licensing Contact: John Peter Kim; 301/496-7056 ext. 264; e-mail: jk141n@nih.gov

The present application describes a device and method for accessing and retrieving tissue from a body cavity through minimally invasive endoscopic procedures. Specifically, the present invention consists of a sac holding device, having a rotatable hinge joining bowed leaf elements. The bowed leaf elements form a loop which is adapted to open and close the sac by rotation of the bowed leaf elements. With this laparoscopic device, one can easily contain materials that have been targeted for removal from body cavities. Pieces of infected or cancerous tissue and body fluids are easily contained and can be removed without the danger of collateral contamination.

Novel Diagnostic Standards for Virus Detection and Quantification

Richard Y. Wang and James W. Shih (CC)

DHHS Reference Nos. E-228-98/0 filed 20 Apr 1999 and E-228-98/1 filed 20 Apr 2000

Licensing Contact: John Peter Kim; 301/496-7056 ext. 264; e-mail: jk141n@nih.gov

The gene amplification is a tool for the detection of trace amounts of nucleic acids and the clinical applications of this technique in diagnosis of human diseases have been widely demonstrated. There are numerous steps from sample preparation to final product analysis for gene amplification-based molecular diagnosis of clinical specimens. Small variations in each step among different samples can have profound impacts on the final results.

There is a need for stable and well-calibrated internal standards to enable to monitor every step of the amplification process, e.g., sample preparation, gene amplification, and amplicon detection. The subject invention is directed to internal standards as recombinant viral particles. The particles contain modified target sequence and multiple targets can also be packaged. Particles containing RNA target sequence of human hepatitis C virus (HCV) were constructed as example. Thus, this approach in making internal standards has commercial potential in molecular testing for clinical diagnosis, blood screening, and process validation.

Dated: June 15, 2000.
Jack Spiegel,
Director, Division of Technology Development and Transfer, Office of Technology Transfer, National Institutes of Health.

[FR Doc. 00-16325 Filed 6-27-00; 8:45 am]

BILLING CODE 4140-01-P